DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Materials Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 21, 2006.

ADDRESSES: Address Comments to: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street SW., Washington, DC or at http://dms.dot.gov.

This notice of receipt of applications for special permit is published in accordance with Part 107 of the Federal hazardous materials transportation law (49 U.S.C. 5117(b); 49 CFR 1.53(b)).

Issued in Washington, DC, on March 16, 2006.
R. Ryan Posten,
Chief, Special Permits Program, Office of Hazardous Materials, Special Permits & Approvals.

New Special Permits
Application No. | Docket No. | Applicant | Regulation(s) affected | Nature of special permits thereof
14323-N |  | Puritan Products, Bethlehem, PA | 49 CFR 173.158 | To authorize the transportation in commerce of nitric acid, other than red fuming in UN6HA1 composite drums by highway. (Mode 1)
14325-N |  | DF Young, Inc., Jamaica, NY | 49 CFR 49 CFR Table § 172.101, Column (9B) | To authorize the transportation in commerce of certain Division 1.1 and 1.2 rockets which exceed quantities authorized for transportation by cargo aircraft only. (Mode 4)
14326-N |  | West Isle Line, Alpaugh, CA | 49 CFR 174.85 | To authorize the transportation in commerce of rail cars without the use of buffer cars on a class 2 restricted speed track during daylight hours. (Mode 2)

[FR Doc. 06-2746 Filed 3-21-06; 8:45 am]

BILLING CODE 4909-60-M